DEPARTMENT OF TRANSPORTATION

Federal Aviation Administration

Thirty Third RTCA SC-217 Aeronautical Databases Joint Plenary With EUROCAE Working Group 44

AGENCY: Federal Aviation Administration (FAA), U.S. Department of Transportation (DOT).

ACTION: Thirty Third RTCA SC-217 Aeronautical Databases Joint Plenary with EUROCAE Working Group 44.

SUMMARY: The FAA is issuing this notice to advise the public of a meeting of Thirty Third RTCA SC-217 Aeronautical Databases Joint Plenary with EUROCAE Working Group 44.

DATES: The meeting will be held June 18-21, 2018, 9:00 a.m.-5:00 p.m.

ADDRESS: The meeting will be held at: RTCA Headquarters, 1150 18th Street NW, Suite 910, Washington, DC 20036.

FOR FURTHER INFORMATION, CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Thirty Third RTCA SC-217 Aeronautical Databases Joint Plenary with EUROCAE Working Group 44. The agenda will include the following:

Monday June 18, 2018, 9:00 a.m.-5:00 p.m.

1. Opening Plenary Session

A. Co-Chairmen's Remarks and Introductions

B. Housekeeping & Meeting Logistics

C. DFO Statement and RTCA/EUROCAE IP and Membership Policies

D. Approve Minutes From 32nd Meeting of SC-217/WG-44

E. Review And Approve Meeting Agenda for 33rd Meeting of SC-217/WG-44

F. Action Item List Review

2. Working Group Sessions

Tuesday, June 19, 2018, 9:00 a.m.-5:00 p.m.

3. Working Group Sessions

Wednesday June 20, 2018, 9:00 a.m.-5:00 p.m.

4. Working Group Sessions

Thursday June 21, 2018, 9:00 a.m.-5:00 p.m.

5. Working Group Sessions

6. Closing Plenary Session

A. Meeting Wrap-Up: Main Conclusions and Way Forward

B. Review of Action Items

C. FRAC Readiness Assessment/Approval

D. Next Meetings

E. Future of SC-217/WG-44

F. Consider and Review Any TOR Changes for SC-217/WG-44

G. Any Other Business

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 9, 2018.
Michelle Swearingen,
Systems and Equipment Standards Branch, AIR-6B0, Policy and Innovation Division, AIR-600, Federal Aviation Administration.

[FR Doc. 2018-07569 Filed 4-11-18; 8:45 am]

BILLING CODE 4910-13-P